NUCLEAR REGULATORY COMMISSION

[NRC-2009-0164]

Notice of Availability of Draft NUREG-1536, Revision 1A, “Standard Review Plan for Spent Fuel Dry Storage Systems at a General License Facility,” and Opportunity To Provide Comments

AGENCY: Nuclear Regulatory Commission.

ACTION: Notice of availability and opportunity to provide comments.

DATES: Comments must be provided by July 15, 2009.

FOR FURTHER INFORMATION CONTACT: Ron Parkhill, Senior Mechanical Engineer, Thermal and Containment Branch, Division of Spent Fuel Storage and Transportation Division, Office of Nuclear Material Safety and Safeguards, U.S. Nuclear Regulatory Commission, Washington, DC 20005-0001. Telephone: (301) 492-3324; fax number: (301) 492-3342; e-mail: ron.parkhill@nrc.gov.

SUPPLEMENTARY INFORMATION:

I. Introduction

The Nuclear Regulatory Commission (NRC) is issuing Draft Revision 1A to NUREG-1536, “Standard Review Plan for Spent Fuel Dry Storage Systems at a General License Facility.” Its previous title, “Standard Review Plan for Dry Cask Storage Systems,” has been changed to better reflect its applicability. This revision incorporates Interim Staff Guidance (ISG) documents 1 through 22, as applicable, as well as other current NRC staff practices (e.g., addition of a materials chapter) utilized in its review of licensee integrated safety analyses, license applications or amendment requests, or other related licensing activities for dry storage systems under 10 CFR Part 72. Additionally, the guidance contained in the Review Procedures section of each chapter of the subject document has been risk-informed to assist the NRC staff in prioritizing its review with respect to relative level of effort, and to increase efficiency.

The purpose of this notice is to provide the public with an opportunity to review and solicit comments on the Draft NUREG-1536, Revision 1A, “Standard Review Plan for Spent Fuel Dry Storage Systems at a General License Facility.” These comments will be considered in the final version or subsequent revisions.

II. Opportunity To Provide Comments

Comments and questions on Draft NUREG-1536, Revision 1A, should be directed to Ron Parkhill, Thermal and Containment Branch, Division of Spent Fuel Storage and Transportation, Office of Nuclear Materials Safety and Safeguards, U.S. Nuclear Regulatory Commission, Washington, DC 20005-0001 by July 15, 2009. Comments received after this date will be considered if it is practical to do so, but only those comments received on or before the due date can be assured consideration. Comments can also be submitted by telephone, fax, or e-mail to the following: Telephone: (301) 492-3324; fax number: (301) 492-3331; e-mail: Ron.Parkhill@NRC.gov.

III. Further Information

Documents related to this action are available electronically at the NRC's Electronic Reading Room at http://www.nrc.gov/reading-rm/adams.html. From this site, you can access the NRC's Agencywide Document Access and Management System (ADAMS), which provides text and image files of NRC's public documents. The ADAMS accession number for the document related to this notice is [ML090400676]. If you do not have access to ADAMS, or if there are problems in accessing the documents located in ADAMS, contact the NRC Public Document Room (PDR) reference staff at 1-800-397-4209, (301) 415-4737, or by e-mail to pdr.resource@nrc.gov. ISGs that have been incorporated, as appropriate, into the subject document can be viewed at http://www.nrc.gov/reading-rm/doc-collections/isg/spent-fuel.html. During the public comment period for this document, other ISGs could be issued separately for public comment, and may be incorporated into the final version of NUREG-1536.

This document may also be viewed electronically on the public computers located at the NRC's PDR, O-1 F21, One White Flint North, 11555 Rockville Pike, Rockville, MD 20852. The PDR reproduction contractor will copy documents for a fee.

Dated at Rockville, Maryland, this 2nd day of April, 2009.
For the Nuclear Regulatory Commission.
Nathan Sanfilippo,
Acting Chief, Thermal and Containment Branch, Division of Spent Fuel Storage and Transportation, Office of Nuclear Materials Safety and Safeguards.

[FR Doc. E9-8602 Filed 4-15-09; 8:45 am]

BILLING CODE 7590-01-P